DEPARTMENT OF TRANSPORTATION

Federal Aviation Administration

14 CFR Part 39

[Docket No. 99-SW-04-AD; Amendment 39-11729; AD 2000-10-05]

RIN 2120-AA64

Airworthiness Directives; Eurocopter France Model SE.3160, SA.316B, SA.316C, SA.319B, SA330F, SA330G, SA330J, SA341G, and SA342J Helicopters

AGENCY: Federal Aviation Administration, DOT.

ACTION: Final rule.

SUMMARY: This amendment adopts a new airworthiness directive (AD) that applies to Eurocopter France Model SE.3160, SA.316B, SA.316C, SA.319B, SA330F, SA330G, SA330J, SA341G, and SA342J helicopters. This AD requires inspecting each inflation head and union nut on certain emergency flotation gear nitrogen cylinders and replacing each cracked inflation head with an airworthy inflation head. This amendment is prompted by the discovery of cracked inflation heads during routine maintenance inspections of emergency flotation systems. The actions specified by this AD are intended to prevent an emergency flotation gear nitrogen cylinder from exploding with resultant high velocity shrapnel, which could cause airframe damage or personal injury and subsequent loss of control of the helicopter.

DATES: Effective June 29, 2000.

The incorporation by reference of certain publications listed in the regulations is approved by the Director of the Federal Register as of June 29, 2000.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas 76137; or at the Office of the Federal Register, 800 North Capitol Street, NW., suite 700, Washington, DC.

FOR FURTHER INFORMATION CONTACT: Robert McCallister, Aviation Safety Engineer, FAA, Rotorcraft Directorate, Rotorcraft Standards Staff, 2601 Meacham Blvd., Fort Worth, Texas 76137, telephone (817) 222-5121, fax (817) 222-5961.

SUPPLEMENTARY INFORMATION: A proposal to amend part 39 of the Federal Aviation Regulations (14 CFR part 39) to include an AD that applies to Eurocopter France Model SE.3160, SA.316B, SA.316C, SA.319B, SA330F, SA330G, SA330J, SA341G, and SA342J helicopters was published in the Federal Register on December 10, 1999 (64 FR 69206). That action proposed to require inspecting each inflation head and union nut on certain emergency flotation gear nitrogen cylinders and replacing each cracked inflation head with an airworthy inflation head.

Interested persons have been afforded an opportunity to participate in the making of this amendment. No comments were received on the proposal or the FAA's determination of the cost to the public. The FAA has determined that air safety and the public interest require the adoption of the rule as proposed except for minor editorial changes.

The FAA estimates that 114 helicopters of U.S. registry will be affected by this AD, that it will take approximately 4 work hours per helicopter to accomplish the required actions, and that the average labor rate is $60 per work hour. Required parts will cost approximately $2,138 per helicopter. Based on these figures, the total cost impact of the AD on U.S. operators is estimated to be $271,092.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-10-05 Eurocopter France: Amendment 39-11729. Docket No. 99-SW-04-AD.

Applicability: Model SE.3160, SA.316B, SA.316C, SA.319B, SA330F, SA330G, SA330J, SA341G, and SA342J helicopters with emergency flotation gear nitrogen cylinder, P/N ARZ 74921, with inflation head, part number (P/N) 74929, that has no serial number (S/N), or with a S/N lower than 12000, or has a union nut, P/N 75441 or 75834, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless previously accomplished.

To prevent an emergency flotation gear nitrogen cylinder from exploding with resultant high velocity shrapnel, which could cause airframe damage or personal injury and subsequent loss of control of the helicopter, accomplish the following:

(a) For Model SE.3160, SA.316B, SA.316C, SA.319B, SA330F, SA330G, or SA330J helicopters,

(1) At the next scheduled emergency flotation gear maintenance inspection or 400 hours time-in-service (TIS), whichever occurs first, accomplish the following:

(i) Discharge each emergency flotation gear nitrogen cylinder (cylinder) in accordance with the “Discharge Procedure for the 74921G Cylinder” in Eurocopter France Service Bulletin 05.66, Revision 3, dated May 4, 1998 or Eurocopter France Service Bulletin 05.58, Revision 3, dated May 4, 1998.

(ii) Remove the inflation head and degrease the assembly.

(iii) Perform a dye penetrant inspection of each inflation head and union nut on each emergency flotation gear nitrogen cylinder.

(2) Thereafter, conduct a dye penetrant inspection of each inflation head and union nut on each cylinder at each scheduled emergency flotation gear maintenance inspection or at intervals of not more than 400 hours TIS, whichever occurs first.

(b) For Model SA341G or SA342J helicopters,

(1) At the next scheduled emergency flotation gear maintenance inspection or 520 hours time-in-service, whichever occurs first, accomplish the following:

(i) Discharge each emergency flotation gear nitrogen cylinder in accordance with the “Discharge Procedure for the 74921G Cylinder” in Eurocopter France Service Bulletin 05.19, Revision 3, dated May 4, 1998.

(ii) Remove the inflation head and degrease the assembly.

(iii) Perform a dye penetrant inspection of each inflation head and union nut on each cylinder.

(2) Thereafter, conduct a dye penetrant inspection of each inflation head and union nut on each cylinder at each scheduled emergency flotation gear maintenance inspection or at intervals of not more than 520 hours TIS, whichever occurs first.

(c) Before further flight, replace each cracked inflation head, P/N 74929, with an airworthy inflation head having S/N 12000 or higher.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

(f) The discharge of each cylinder shall be done in accordance with the “Discharge Procedure for the 74921G Cylinder” in Eurocopter France Service Bulletin 05.66, Revision 3, dated May 4, 1998; Eurocopter France Service Bulletin 05.58, Revision 3, dated May 4, 1998; or Eurocopter France Service Bulletin 05.19, Revision 3, dated May 4, 1998. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on June 29, 2000.

Note 3: The subject of this AD is addressed in Direction Generale De L'Aviation Civile AD's 80-062-041(A) R2, 80-063-030(A) R2, and 80-061-028(A) R2, all dated July 15, 1998.

Issued in Fort Worth, Texas, on May 5, 2000.
Eric Bries,
Acting Manager, Rotorcraft Directorate, Aircraft Certification Service.

[FR Doc. 00-12351 Filed 5-24-00; 8:45 am]

BILLING CODE 4910-13-P